NUCLEAR REGULATORY COMMISSION

[Docket No. 50-460; Nuclear Project No. 1 (WNP-1)]

Energy Northwest; Environmental Assessment and Finding of No Significant Impact

The U.S. Nuclear Regulatory Commission (NRC) is terminating Construction Permit No. CPPR-134 issued to Washington Public Power Supply System (permittee, now doing business as Energy Northwest) for the Nuclear Project No. 1 (WNP-1). The facility is located at Energy Northwest's site on the Department of Energy's Hanford Reservation in Benton County, Washington, approximately 8 miles north of Richland, Washington.

Environmental Assessment

Identification of Proposed Action

The proposed action is issuance of an Order that would terminate Construction Permit No. CPPR-134 for the partially completed and previously deferred WNP-1 facility. Because the construction permit for Unit 4 (WNP-4) was effectively subsumed in the Unit 1 construction permit on November 27, 1985, the proposed action would terminate NRC oversight at the Unit 1 and Unit 4 site area. The proposed action is in response to Energy Northwest's request dated August 9, 2005, supplemented by letter dated July 7, 2006.

The Need for the Proposed Action

The proposed action is needed to allow the permitee to undertake other activities (aside from the construction and possible future operation of a nuclear power plant) at the WNP-1 and WNP-4 site area. For example, Energy Northwest is investigating the possible use of the WNP-¼ site for an industrial park. An application for an operating license was filed with the NRC for WNP-1; the Operating License Proceeding was terminated by the Atomic Safety and Licensing Board on July 26, 2000. The construction permit for Unit 1 would have expired on June 1, 2011. Energy Northwest requested the termination of the WNP-1 construction permit because it has determined that it will not complete construction of either WNP-1 or WNP-4; it has terminated the construction of the nuclear power plants as well as the maintenance of layup activities such that neither unit can be operated as a utilization facility.

Environmental Impacts of the Proposed Action

The WNP-1 and adjacent WNP-4 sites are located on a portion of the Hanford Reservation in Washington State that the permittee has leased from U.S. Department of Energy. The environmental impacts associated with the construction of the facility have been previously discussed and evaluated in the Final Environmental Statement (FES) prepared as part of the NRC staff's review of the construction permit application, NUREG-75/012, March 1975. Construction was suspended on the partially-completed WNP-1 Project in 1982.

The construction of WNP-1 was approximately 65 percent complete; therefore, most of the construction impacts discussed in the FES have already occurred. This action would terminate the authorization to conduct any of the remaining construction activities described in the FES and would also terminate NRC's oversight for activities at the site area.

Restoration of the site is being conducted in accordance with Washington State Energy Facility Site Evaluation Council (EFSEC) Resolution No. 302 (Resolution). This resolution contains the requirements and schedule for restoration of the WNP-1 and WNP-4 sites, as agreed to by Energy Northwest, Bonneville Power Administration, U.S. Department of Energy, and the State of Washington. This agreement, approved by the four parties in December 2003, stipulated restoration activities in two phases—near term (within 18 to 24 months) and final restoration (within approximately 26 years, or by the end of 2029). The NRC staff assessed the scope of the restoration activities addressed in the Resolution and has determined that the goals and objectives of such activities, when carried out, would achieve an environmentally stable and aesthetically acceptable site. Energy Northwest has stated that all near term activities have been completed.

Near term restoration activities that have been completed at the WNP-1 and WNP-4 site area include: removal of hazardous materials (such as asbestos, mercury vapor lights, transformer mineral oil or polychlorinated biphenyls [PCBs], diesel fuel, lubricants, and solvents); installation of secure access doors or permanent sealing of points of entry to the remaining structures on the sites; relocation of fencing and installation of new fencing to minimize the land area and to reduce unauthorized entry potential such that security patrols are not required; installation of “No Trespassing” signs; elimination of fall hazards; fencing of exterior substations and distribution load centers to minimize the potential for entry; and removal of temporary buildings that are neither safe nor feasible for reuse.

The Unit 1 Containment Building has been cleaned to remove trash, debris, overhead hazards, scaffolding, and formwork. Under the Resolution, this building will remain intact as constructed—no further actions will be needed for the Unit 1 containment at the final restoration phase.

The Unit 4 Containment Building has been cleaned to remove trash, debris, overhead hazards, scaffolding, and formwork. This building was filled with compacted earth to elevation 479′ and a 6″ thick concrete floor was poured at that level. (The ground elevation around the containment and general services buildings at WNP-1 and WNP-4 is approximately 455′ above mean sea level.) Openings in the Unit 4 Containment Building were either sealed or fitted with anti-bird roosting screens; building protrusions were minimized or fitted with anti-bird roosting screens. Provision was made for water drainage. Under the Resolution, this building will remain in its existing condition—no further actions will be needed for the Unit 4 containment at the final restoration phase.

The Unit 1 General Services Building has had concrete roofs poured at elevations 518′ and 543′. Under the Resolution, this building will remain intact as constructed. The upper levels of the Unit 4 General Services Building interior has been cleaned to remove trash, debris, overhead hazards, scaffolding, and formwork. The lower areas of the Unit 4 General Services Building, where no access is required, will not be cleaned. The walls have been demolished to the 501′ elevation. Metal roofing with a (painted polystyrene) coating has been installed at elevations 501′ and 479′ to seal the building. Under the Resolution, both buildings will remain in their current configuration—no further actions will be needed for the Unit 1 or the Unit 4 General Services Building at the final restoration phase.

The interior of the Unit 1 Turbine-Generator Building has been cleaned to remove trash, debris, and overhead hazards. This building will be demolished and removed at the Final Restoration phase. Under the Resolution, the Unit 1 turbine pedestal will remain after demolition and removal of the building.

Construction of the WNP-4 Turbine-Generator Building was halted following completion of the building shell (structural steel, floor slabs, walls, roof, exterior siding, etc.). These elements were demolished in 1990 prior to the restoration agreement with EFSEC. Only the turbine pedestal and portions of the ground floor slab remain. Under the Resolution, the Unit 4 turbine pedestal will remain intact as constructed—no further actions will be needed for the Unit 4 turbine pedestal at the final restoration phase.

The Unit 1 and Unit 4 spray ponds have had separate fences installed around the ponds. The interiors of the Unit 1 and Unit 4 Pump House Buildings have been cleaned to remove trash, debris, overhead hazards, scaffolding, and formwork. Under the Resolution, final restoration for these structures will consist of removal of the buildings and backfilling of the spray ponds.

The Unit 1 and Unit 4 cooling towers have had chain link fences with locked gates installed to secure access to the cooling tower stairwells. Anti-bird screens have been added to minimize access by birds. Under the Resolution, final restoration activities for the Unit 1 and Unit 4 cooling towers will include demolition of the existing structures to grade and removal of the basin slabs.

During the final restoration phase, all slabs and most structures (except for the Containment Buildings, General Services Buildings, and turbine pedestals) will be removed. The landfill will be closed and capped, the large underground circulating water lines will be backfilled, all roads and rail lines will be removed and graded, and all yard areas will be cleaned, contoured, graded and seeded implementing best management practices. After the final restoration activities have been completed, the structures remaining permanently in place at the sites will be limited to the Units 1 and 4 Containment Buildings, General Services Buildings, and turbine pedestals.

The permit issued by the Army Corps of Engineers for the submerged river water intake structure requires that if Energy Northwest decides to abandon the intake structure, Energy Northwest must restore the area to a condition satisfactory to the district engineer. At this time, the river intake structure may be a part of future plans for use of the site and abandonment is not under consideration.

The NRC staff conducted an audit of the site area encompassing WNP-1 and WNP-4 on April 24 and 25, 2006, to determine whether posession of source, byproduct or special nuclear material was controlled as authorized, to determine whether the site area is being maintained in a safe and stable manner, and to assess key environmental aspects of the site. The staff observed selected portions of the Containment Buildings, General Services Buildings, spray ponds, cooling towers, the Unit 1 Turbine-Generator Building, Pump House Buildings, and other site buildings. The staff also observed that erosion controls were being maintained. The staff assessed the effectiveness of the measures already taken under the near term phase of site restoration plan and concluded that restoration activities appear to meet the goals and objectives of Washington State EFSEC Resolution No. 302.

Based on the foregoing, the NRC staff has concluded that the proposed action would have no significant environmental impact. The staff also concluded that there is reasonable assurance that the remaining site restoration activities under the Resolution will achieve an environmentally stable and aesthetically acceptable site for whatever non-nuclear use may conform with local zoning laws and Department of Energy authorizations.

The site area cannot be used for the utilization facility envisioned under CPPR-134. No nuclear fuel was ever received on site. The site area is in an environmentally stable condition that poses no significant hazard to persons onsite. The facility cannot be operated in its present condition. Because this proposed action would only terminate the construction permit, it does not involve any different impacts or involve a significant change to those impacts described and analyzed in the FES. Consequently, an environmental impact statement addressing the proposed action is not required.

Because the proposed construction permit termination Order is for a project that was suspended 24 years ago, the action is judged to be administrative in nature and would have no significant environmental impact. It does not involve any different impacts as described and analyzed in the Staff's FES and will not involve any impacts beyond those already described and analyzed in the FES. The proposed action will terminate the NRC's involvement on the project.

Alternatives to the Proposed Action

The only alternative to the proposed action would be to deny the request, i.e., the “no action” alternative. This alternative would still result in the conduct of the activities prescribed for final restoration in the four-party agreement dated December 3, 2003. This alternative would necessitate continued oversight by NRC of a project that has ceased construction and has no likelihood of completion; that will not be operated as a utilization facility; that has stable environmental conditions; and that continues to be subject to oversight by other regulatory agencies—all with no significant environmental benefit. The environmental impacts of the proposed action and the “no action” alternative are similar.

Alternative Use of Resources

This action does not involve the use of resources not previously considered in the FES for WNP-1.

Agencies and Persons Contacted

In accordance with its stated policy, on August 31, 2006, the staff consulted with the Washington State Official, Mr. Richard Cowley, regarding the environmental impact of the proposed action. The State official had no comments.

Finding of No Significant Impact

On the basis of the environmental assessment, the NRC concludes that this action will not have a significant effect on the quality of the human environment. Accordingly, the NRC has determined not to prepare an environmental impact statement for this action.

For further details with respect to this action, see the licensee's request for construction permit termination dated August 9, 2005, supplemented by letter dated July 7, 2006. Documents may be examined, and/or copied for a fee, at the NRC's Public Document Room, located at One White Flint North, 11555 Rockville Pike (first floor), Rockville, Maryland. Publicly available records will be accessible electronically from the Agency wide Documents Access and Management Systems (ADAMS) Public Electronic Reading Room on the internet at the NRC Web site, http://www.nrc.gov/reading-rm/adams.html. Persons who do not have access to ADAMS or who encounter problems in accessing the documents located in ADAMS should contact the NRC PDR Reference staff by telephone at 1-800-397-4029 or 301-415-4737, or send an e-mail to pdr@nrc.gov.

Dated at Rockville, Maryland this 31st day of August 2006.
For the Nuclear Regulatory Commission.
Brian J. Benney,
Project Manager, Plant Licensing Branch IV, Division of Operating Reactor Licensing, Office of Nuclear Reactor Regulation.

[FR Doc. E6-14774 Filed 9-6-06; 8:45 am]

BILLING CODE 7590-01-P